DEPARTMENT OF JUSTICE

Antitrust Division

Notice Pursuant to the National Cooperative Research and Production Act of 1993: Fire Sprinkler Manufacturers' Joint Research and Development Consortium

Notice is hereby given that, on January 31, 2000, pursuant to Section 6(a) of the National Cooperative Research and Production Act of 1993, 15 U.S.C. 4301 et seq. (“the Act”), the Fire Sprinkler Manufacturers' Joint Research and Development Consortium (the “Consortium”) has filed written notifications simultaneously with the Attorney General and the Federal Trade Commission disclosing (1) the identities of the parties and (2) the nature and objective of the venture. The notifications were filed for the purpose of invoking the Act's provisions limiting the recovery of antitrust plaintiffs to actual damages under specified circumstances.

Pursuant to Section 6(b) of the Act, the identities of the parties are: Central Sprinkler, Inc., Exeter, NH; Firematic Sprinkler Services, Inc., Shrewsbury, MA; Gem Sprinkler Company, Exeter, NH; Globe Fire Sprinkler Corporation, Standish, MI; Kidde Fire Fighting USA, Exton, PA; National Fire Sprinkler Association, Inc., Patterson, NY; The Reliable Automatic Sprinkler Company, Inc., Mount Vernon, NY; Star Sprinkler, Inc., Exeter, NH; Tyco Flow Control, Exeter, NH; Tyden Group, Grand Rapids, MI; Victaulic Fire Safety Company, LLC, Easton, PA; and The Viking Corporation, Hastings, MI.

The general area of planned activity is to collect, exchange and analyze research information to determine, in conjunction with the U.S. Consumer Product Safety Commission or such other agency as may be deemed an interested party, whether listing and approval test standards, as well as installation and maintenance standards, relating to fire sprinklers need to be revised and, if necessary, to develop and recommend changes to such standards.

Constance K. Robinson,
Director of Operations, Antitrust Division.

[FR Doc. 01-17884 Filed 7-17-01; 8:45 am]

BILLING CODE 4410-11-M